DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations, 30 CFR part 44, govern the application, processing, and disposition of petitions for modification. This notice is a summary of petitions for modification submitted to the Mine Safety and Health Administration (MSHA) by the parties listed below.

DATES: All comments on the petitions must be received by the Office of Standards, Regulations, and Variances on or before June 15, 2015.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 1100 Wilson Boulevard, Room 2350, Arlington, Virginia 22209-3939, Attention: Sheila McConnell, Acting Director, Office of Standards, Regulations, and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2015-011-C.

Petitioner: GCC Energy, LLC, 6473 County Road 120, Hesperus, Colorado 81326.

Mine: King II Mine, MSHA I.D. No. 05-04864, located in La Plata County, Colorado.

Regulation Affected: 30 CFR 77.1403 (Daily examination of hoisting equipment).

Modification Request: The petitioner requests a modification of the existing standard that requires examinations of hoists and elevators as it applies to a new limited use/limited application wheelchair lift elevator system. The petitioner states that:

1. This wheelchair lift will not carry miners into the mine on regularly scheduled shifts.

2. The wheelchair lift is located on the South end of our two-story bathhouse next to the stairs accessing the second floor where Engineering and Superintendent offices are located. GCC Energy LLC is in a new building located on the surface area of an underground mine site. A new two-stop limited use/limited application elevator system has been installed. The purpose and intent of the hoist is for handicap access to the offices on the second floor of the bathhouse.

3. The wheelchair lift is installed and designed to comply with the Americans with Disabilities Act.

4. Title 30 CFR 77.1403 requires daily examinations of hoists and elevators, and 30 CFR 77.1404 requires that the person making the examination certify that the examination has been made. The records are to be kept for one year.

5. The Colorado Department of Labor and Employment, Division of Oil and Public Safety (OPS), Conveyance Program protects the riding public and industry personnel in the State of Colorado from the hazards of dangerous conveyances. To achieve this mission, the OPS requires the following:

(a) That all elevators, escalators, dumbwaiters, wheelchair lifts, APM and other regulated conveyances located in Colorado be registered with OPS.

(b) The installation, alteration, maintenance, testing, and annual inspection of regulated conveyances be completed according to the Colorado conveyance regulations, industry code and standard adopted in statute and regulation.

(c) That all conveyance contractors, mechanics, and inspectors maintain a current license issued by OPS and that the installation, alteration, maintenance, and examinations of regulated conveyances are completed by licensed and qualified personnel.

6. The petitioner states that GCC Energy does not employ a licensed OPS inspector. Accordingly, GCC seeks relief from the requirements of daily examination and recordkeeping of hoisting equipment. GCC Energy changes light bulbs in the cabin and records the phase 1 fire tests done monthly in the cabin. The control panel or inspection covers are not opened by GCC, and GCC does not perform any service or maintenance on the lift. Every five years a witness test with a licensed mechanic must be performed.

7. The elevator is a wheelchair lift with a single hydraulic cylinder traveling approximately 12 feet, not to exceed 30 feet per minute, that is roped so as not to allow over-extension. The cabin is attached to the cylinder. There are no wire ropes, sheave wheels, sheaves, or thimbles that must be examined daily for wear, and no damaged or worn bearings or broken wires.

8. GCC Energy, LLC is petitioning to allow the licensed inspectors to do the examinations and the licensed mechanics to do all repairs.

The petitioner asserts that the proposed alternative method will increase the safety of the miners and afford them no less than the same level of protection as the existing standard.

Docket Number: M-2015-012-C.

Petitioner: Peabody Midwest Mining, LLC, P.O. Box 369, Coulterville, Illinois.

Mine: Gateway North Mine, MSHA I.D. No. 11-03235, located in Randolph County, Illinois.

Regulation Affected: 30 CFR 75.1909(b)(6) (Nonpermissible diesel-powered equipment; design and performance requirements).

Modification Request: The petitioner requests a modification of the existing standard to permit the use of a Getman Road Builder as it was originally designed, without front brakes. The petitioner states that:

(1) The existing standard for self-propelled nonpermissible diesel-powered equipment does not address equipment with more than four wheels, specifically the Getman RDG-1504S Road Builder with six wheels. This machine has dual brake systems on the four rear wheels and it is designed to prevent a loss of braking due to a single component failure.

(2) The speed of the machine will be limited to 10 miles per hour by permanently blocking out any gear that would provide higher speed, or transmission and differential ratios that would limit the maximum speed to 10 miles per hour will be used.

(3) The grader operators will be trained to recognize appropriate speeds for different road conditions and slopes.

(4) The grader operators will be trained to lower the grader blade to provide additional stopping capability.

(5) The petitioner proposes to transfer the RDG-1540S Road Builder, serial number 6739, from the Gateway Mine that will be closing, to the New Gateway North Mine.

The petitioner asserts that if the machine is operated as described in the petition, the safety of the miners will not be compromised.

Dated: May 11, 2015.
Sheila McConnell,
Acting Director, Office of Standards, Regulations, and Variances.

[FR Doc. 2015-11713 Filed 5-14-15; 8:45 am]

BILLING CODE 4510-43-P